DEPARTMENT OF TRANSPORTATION

Federal Aviation Administration

14 CFR Part 97

[Docket No. 31153; Amdt. No. 3764]

Standard Instrument Approach Procedures, and Takeoff Minimums and Obstacle Departure Procedures; Miscellaneous Amendments

AGENCY: Federal Aviation Administration (FAA), DOT.

ACTION: Final rule.

SUMMARY: This rule amends, suspends, or removes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide for the safe and efficient use of the navigable airspace and to promote safe flight operations under instrument flight rules at the affected airports.

DATES: This rule is effective September 13, 2017. The compliance date for each SIAP, associated Takeoff Minimums, and ODP is specified in the amendatory provisions.

The incorporation by reference of certain publications listed in the regulations is approved by the Director of the Federal Register as of September 13, 2017.

ADDRESSES: Availability of matter incorporated by reference in the amendment is as follows:

For Examination

1. U.S. Department of Transportation, Docket Ops-M30, 1200 New Jersey Avenue SE., West Bldg., Ground Floor, Washington, DC 20590-0001;

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center online at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420) Flight Technologies and Procedures Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (NFDC)/Permanent Notice to Airmen (P-NOTAM), and is incorporated by reference under 5 U.S.C. 552(a), 1 CFR part 51, and 14 CFR 97.20. The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained on FAA form documents is unnecessary.

This amendment provides the affected CFR sections, and specifies the SIAPs and Takeoff Minimums and ODPs with their applicable effective dates. This amendment also identifies the airport and its location, the procedure and the amendment number.

Availability and Summary of Material Incorporated by Reference

The material incorporated by reference is publicly available as listed in the ADDRESSES section.

The material incorporated by reference describes SIAPs, Takeoff Minimums and ODPs as identified in the amendatory language for part 97 of this final rule.

The Rule

This amendment to 14 CFR part 97 is effective upon publication of each separate SIAP and Takeoff Minimums and ODP as amended in the transmittal. For safety and timeliness of change considerations, this amendment incorporates only specific changes contained for each SIAP and Takeoff Minimums and ODP as modified by FDC permanent NOTAMs.

The SIAPs and Takeoff Minimums and ODPs, as modified by FDC permanent NOTAM, and contained in this amendment are based on the criteria contained in the U.S. Standard for Terminal Instrument Procedures (TERPS). In developing these changes to SIAPs and Takeoff Minimums and ODPs, the TERPS criteria were applied only to specific conditions existing at the affected airports. All SIAP amendments in this rule have been previously issued by the FAA in a FDC NOTAM as an emergency action of immediate flight safety relating directly to published aeronautical charts.

The circumstances that created the need for these SIAP and Takeoff Minimums and ODP amendments require making them effective in less than 30 days.

Because of the close and immediate relationship between these SIAPs, Takeoff Minimums and ODPs, and safety in air commerce, I find that notice and public procedure under 5 U.S.C. 553(b) are impracticable and contrary to the public interest and, where applicable, under 5 U.S.C. 553(d), good cause exists for making these SIAPs effective in less than 30 days.

The FAA has determined that this regulation only involves an established body of technical regulations for which frequent and routine amendments are necessary to keep them operationally current. It, therefore—(1) is not a “significant regulatory action” under Executive Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on August 25, 2017.
John S. Duncan,
Director, Flight Standards Service.

Adoption of the Amendment

Accordingly, pursuant to the authority delegated to me, Title 14, Code of Federal regulations, Part 97, (14 CFR part 97), is amended by amending Standard Instrument Approach Procedures and Takeoff Minimums and ODPs, effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

By amending: § 97.23 VOR, VOR/DME, VOR or TACAN, and VOR/DME or TACAN; § 97.25 LOC, LOC/DME, LDA, LDA/DME, SDF, SDF/DME; § 97.27 NDB, NDB/DME; § 97.29 ILS, ILS/DME, MLS, MLS/DME, MLS/RNAV; § 97.31 RADAR SIAPs; § 97.33 RNAV SIAPs; and § 97.35 COPTER SIAPs, Identified as follows:

* * * Effective Upon Publication

AIRAC date | State | City | Airport | FDC No. | FDC date | Subject
12-Oct-17 | MI | Battle Creek | W K Kellogg | 7/0799 | 8/2/17 | This NOTAM, published in TL 17-20, is hereby rescinded in its entirety.
12-Oct-17 | ID | Pocatello | Pocatello Rgnl | 7/1022 | 8/2/17 | This NOTAM, published in TL 17-20, is hereby rescinded in its entirety.
12-Oct-17 | OH | Mansfield | Mansfield Lahm Rgnl | 7/5241 | 8/2/17 | This NOTAM, published in TL 17-20, is hereby rescinded in its entirety.
12-Oct-17 | CA | Bakersfield | Meadows Field | 7/6052 | 8/2/17 | This NOTAM, published in TL 17-20, is hereby rescinded in its entirety.
12-Oct-17 | NY | Elmira/Corning | Elmira/Corning Rgnl | 7/6084 | 8/2/17 | This NOTAM, published in TL 17-20, is hereby rescinded in its entirety.
12-Oct-17 | GA | Savannah | Savannah/Hilton Head Intl | 7/9349 | 8/2/17 | This NOTAM, published in TL 17-20, is hereby rescinded in its entirety.
12-Oct-17 | IA | Dubuque | Dubuque Rgnl | 7/9350 | 8/2/17 | This NOTAM, published in TL 17-20, is hereby rescinded in its entirety.
12-Oct-17 | MI | Pontiac | Oakland County Intl | 7/9870 | 8/2/17 | This NOTAM, published in TL 17-20, is hereby rescinded in its entirety.
12-Oct-17 | MS | Natchez | Hardy-Anders Field Natchez-Adams County | 7/0374 | 8/10/17 | RNAV (GPS) RWY 31, Amdt 1A.
12-Oct-17 | MS | Natchez | Hardy-Anders Field Natchez-Adams County | 7/0375 | 8/10/17 | RNAV (GPS) RWY 36, Amdt 1A.
12-Oct-17 | TX | Decatur | Decatur Muni | 7/0378 | 8/14/17 | RNAV (GPS) RWY 35, Orig.
12-Oct-17 | NY | Schenectady | Schenectady County | 7/0419 | 8/10/17 | RNAV (GPS) RWY 10, Orig-D.
12-Oct-17 | VA | Moneta | Smith Mountain Lake | 7/0439 | 8/10/17 | RNAV (GPS) RWY 23, Orig-B.
12-Oct-17 | AK | Kokhanok | Kokhanok | 7/0447 | 8/14/17 | RNAV (GPS) RWY 6, Orig-C.
12-Oct-17 | AK | Kokhanok | Kokhanok | 7/0448 | 8/14/17 | RNAV (GPS) RWY 24, Orig-C.
12-Oct-17 | WY | Guernsey | Camp Guernsey | 7/0520 | 8/14/17 | RNAV (GPS) RWY 32, Orig-B.
12-Oct-17 | NV | Las Vegas | Mc Carran Intl | 7/0577 | 8/22/17 | VOR RWY 26L/R, Amdt 4.
12-Oct-17 | ND | Fargo | Hector Intl | 7/0712 | 8/22/17 | RNAV (GPS) RWY 18, Amdt 1A.
12-Oct-17 | NC | Greensboro | Piedmont Triad Intl | 7/0800 | 8/8/17 | RNAV (GPS) RWY 23R, Orig-B.
12-Oct-17 | AR | Ash Flat | Sharp County Rgnl | 7/0852 | 8/10/17 | RNAV (GPS) RWY 4, Orig.
12-Oct-17 | SC | Marion | Marion County | 7/1016 | 8/14/17 | RNAV (GPS) RWY 4, Amdt 1.
12-Oct-17 | TN | Knoxville | Mc Ghee Tyson | 7/1098 | 8/10/17 | RNAV (GPS) RWY 23R, Amdt 2.
12-Oct-17 | TN | Knoxville | Mc Ghee Tyson | 7/1100 | 8/10/17 | RNAV (GPS) RWY 5L, Amdt 2.
12-Oct-17 | GA | Pine Mountain | Harris County | 7/1145 | 8/10/17 | VOR-A, Amdt 5A.
12-Oct-17 | NC | Greensboro | Piedmont Triad Intl | 7/1158 | 8/8/17 | RNAV (GPS) RWY 5L, Orig-B.
12-Oct-17 | OK | Goldsby | David Jay Perry | 7/1921 | 8/14/17 | RNAV (GPS) RWY 31, Orig.
12-Oct-17 | CA | Beckwourth | Nervino | 7/1926 | 8/10/17 | RNAV (GPS) Y RWY 26, Orig-C.
12-Oct-17 | AK | King Salmon | King Salmon | 7/2193 | 8/10/17 | ILS OR LOC/DME RWY 12, Amdt 18A.
12-Oct-17 | NC | Kinston | Kinston Rgnl Jetport At Stallings Fld | 7/2200 | 8/10/17 | RNAV (GPS) RWY 5, Amdt 3.
12-Oct-17 | NC | Kinston | Kinston Rgnl Jetport At Stallings Fld | 7/2204 | 8/10/17 | RNAV (GPS) RWY 23, Amdt 3.
12-Oct-17 | TN | Memphis | Memphis Intl | 7/3222 | 8/10/17 | RNAV (GPS) Z RWY 18L, Amdt 2B.
12-Oct-17 | AK | Barrow | Wiley Post-Will Rogers Memorial | 7/3224 | 8/22/17 | ILS OR LOC RWY 7, Amdt 1.
12-Oct-17 | MN | Sauk Centre | Sauk Centre Muni | 7/3286 | 8/10/17 | RNAV (GPS) RWY 32, Amdt 1.
12-Oct-17 | MN | Sauk Centre | Sauk Centre Muni | 7/3287 | 8/10/17 | RNAV (GPS) RWY 14, Orig.
12-Oct-17 | IL | Bloomington/Normal | Central Il Rgnl Arpt At Bloomington-Normal | 7/3397 | 8/10/17 | ILS OR LOC RWY 20, ILS RWY 20 (CAT II), Amdt 3A.
12-Oct-17 | OH | Cleveland | Burke Lakefront | 7/3986 | 8/14/17 | ILS OR LOC RWY 24R, Amdt 1.
12-Oct-17 | GA | Pine Mountain | Harris County | 7/4505 | 8/10/17 | RNAV (GPS) RWY 9, Orig-A.
12-Oct-17 | NM | Truth Or Consequences | Truth Or Consequences Muni | 7/4682 | 8/8/17 | VOR-A, Amdt 9C.
12-Oct-17 | NC | Statesville | Statesville Rgnl | 7/4740 | 8/10/17 | ILS OR LOC/DME Y RWY 28, Orig.
12-Oct-17 | NC | Statesville | Statesville Rgnl | 7/4742 | 8/10/17 | ILS OR LOC/DME Z RWY 28, Amdt 1.
12-Oct-17 | NC | Statesville | Statesville Rgnl | 7/4743 | 8/10/17 | RNAV (GPS) RWY 10, Amdt 1.
12-Oct-17 | NC | Statesville | Statesville Rgnl | 7/4744 | 8/10/17 | RNAV (GPS) RWY 28, Amdt 3A.
12-Oct-17 | OR | Portland | Portland Intl | 7/4815 | 8/14/17 | RNAV (GPS) Y RWY 10R, Amdt 2A.
12-Oct-17 | KY | Louisville | Louisville Intl-Standiford Field | 7/4828 | 8/14/17 | RNAV (GPS) Y RWY 35R, Amdt 1C.
12-Oct-17 | LA | New Orleans | Louis Armstrong New Orleans Intl | 7/4829 | 8/14/17 | ILS OR LOC RWY 29, Amdt 10.
12-Oct-17 | MN | Rochester | Rochester Intl | 7/4830 | 8/14/17 | RNAV (GPS) RWY 13, Amdt 1.
12-Oct-17 | NY | Syracuse | Syracuse Hancock Intl | 7/4831 | 8/14/17 | RNAV (GPS) Z RWY 28, Amdt 2B.
12-Oct-17 | AK | Elim | Elim | 7/4888 | 8/22/17 | RNAV (GPS) RWY 19, Orig-B.
12-Oct-17 | TX | Fort Worth | Fort Worth Alliance | 7/4891 | 8/10/17 | RNAV (GPS) RWY 16R, Amdt 1.
12-Oct-17 | AK | Cold Bay | Cold Bay | 7/4937 | 8/14/17 | LOC/DME BC RWY 33, Amdt 10B.
12-Oct-17 | AK | Cold Bay | Cold Bay | 7/4938 | 8/14/17 | RNAV (GPS) RWY 33, Amdt 2B.
12-Oct-17 | CA | Calipatria | Cliff Hatfield Memorial | 7/5126 | 8/10/17 | Takeoff Minimums and Obstacle DP, Orig.
12-Oct-17 | AK | Kwethluk | Kwethluk | 7/5560 | 8/14/17 | RNAV (GPS) RWY 36, Orig-A.
12-Oct-17 | AK | Kwethluk | Kwethluk | 7/5561 | 8/14/17 | RNAV (GPS) RWY 18, Orig-A.
12-Oct-17 | CO | Denver | Denver Intl | 7/5909 | 8/8/17 | RNAV (GPS) Y RWY 7, Amdt 1A.
12-Oct-17 | CO | Denver | Denver Intl | 7/5912 | 8/8/17 | RNAV (GPS) Y RWY 16L, Amdt 1B.
12-Oct-17 | CO | Denver | Denver Intl | 7/5914 | 8/8/17 | RNAV (GPS) Y RWY 16R, Amdt 1B.
12-Oct-17 | CO | Denver | Denver Intl | 7/5916 | 8/8/17 | RNAV (GPS) Y RWY 17R, Amdt 1B.
12-Oct-17 | CO | Denver | Denver Intl | 7/5921 | 8/8/17 | RNAV (GPS) Y RWY 26, Amdt 1A.
12-Oct-17 | CO | Denver | Denver Intl | 7/5922 | 8/8/17 | RNAV (GPS) Y RWY 34L, Amdt 2B.
12-Oct-17 | CO | Denver | Denver Intl | 7/5935 | 8/8/17 | RNAV (GPS) Y RWY 34R, Amdt 2A.
12-Oct-17 | CO | Denver | Denver Intl | 7/5938 | 8/8/17 | RNAV (GPS) Y RWY 35L, Amdt 2A.
12-Oct-17 | CO | Denver | Denver Intl | 7/5939 | 8/8/17 | RNAV (GPS) Y RWY 35R, Amdt 2A.
12-Oct-17 | TX | Amarillo | Rick Husband Amarillo Intl | 7/5974 | 8/8/17 | ILS OR LOC RWY 4, Amdt 22D.
12-Oct-17 | MN | Minneapolis | Minneapolis-St Paul Intl/Wold-Chamberlain | 7/6114 | 8/14/17 | RNAV (GPS) Z RWY 12R, Amdt 4.
12-Oct-17 | PR | Aguadilla | Rafael Hernandez | 7/6264 | 8/22/17 | VOR/DME OR TACAN RWY 26, Orig-C.
12-Oct-17 | NM | Truth Or Consequences | Truth Or Consequences Muni | 7/6298 | 8/8/17 | RNAV (GPS)-A, Orig.
12-Oct-17 | OH | Cleveland | Cleveland-Hopkins Intl | 7/6554 | 8/14/17 | RNAV (GPS) RWY 24R, Amdt 3C.
12-Oct-17 | NC | Raleigh/Durham | Raleigh-Durham Intl | 7/6596 | 8/8/17 | RNAV (GPS) Y RWY 5R, Amdt 2A.
12-Oct-17 | MT | Libby | Libby | 7/6820 | 8/22/17 | RNAV (GPS)-A, Orig-C.
12-Oct-17 | TX | Corpus Christi | Corpus Christi Intl | 7/7843 | 8/14/17 | ILS OR LOC RWY 36, Amdt 13A.
12-Oct-17 | TX | La Porte | La Porte Muni | 7/7970 | 8/10/17 | VOR-A, Orig-A.
12-Oct-17 | TX | Athens | Athens Muni | 7/8233 | 8/14/17 | RNAV (GPS) RWY 17, Orig.
12-Oct-17 | GA | Atlanta | Hartsfield-Jackson Atlanta Intl | 7/8923 | 8/14/17 | RNAV (GPS) PRM RWY 27L (SIMULTANEOUS CLOSE PARALLEL), Orig.
12-Oct-17 | GA | Atlanta | Hartsfield-Jackson Atlanta Intl | 7/8955 | 8/14/17 | RNAV (GPS) PRM RWY 9R (SIMULTANEOUS CLOSE PARALLEL), Orig.
12-Oct-17 | GA | Atlanta | Hartsfield-Jackson Atlanta Intl | 7/8958 | 8/14/17 | RNAV (GPS) PRM Y RWY 10 (SIMULTANEOUS CLOSE PARALLEL), Orig.
12-Oct-17 | GA | Atlanta | Hartsfield-Jackson Atlanta Intl | 7/8963 | 8/14/17 | RNAV (GPS) PRM Y RWY 26R (SIMULTANEOUS CLOSE PARALLEL), Orig.
12-Oct-17 | GA | Atlanta | Hartsfield-Jackson Atlanta Intl | 7/8967 | 8/14/17 | RNAV (GPS) PRM Y RWY 28 (SIMULTANEOUS CLOSE PARALLEL), Orig.
12-Oct-17 | GA | Atlanta | Hartsfield-Jackson Atlanta Intl | 7/8969 | 8/14/17 | RNAV (GPS) PRM Y RWY 8L (SIMULTANEOUS CLOSE PARALLEL), Orig.
12-Oct-17 | GA | Atlanta | Hartsfield-Jackson Atlanta Intl | 7/8971 | 8/14/17 | RNAV (GPS) RWY 27L, Amdt 5.
12-Oct-17 | GA | Atlanta | Hartsfield-Jackson Atlanta Intl | 7/8972 | 8/14/17 | RNAV (GPS) RWY 9R, Amdt 4A.
12-Oct-17 | GA | Atlanta | Hartsfield-Jackson Atlanta Intl | 7/8994 | 8/14/17 | RNAV (GPS) Y RWY 08L, Amdt 4.
12-Oct-17 | GA | Atlanta | Hartsfield-Jackson Atlanta Intl | 7/8996 | 8/14/17 | RNAV (GPS) Y RWY 10, Amdt 4.
12-Oct-17 | GA | Atlanta | Hartsfield-Jackson Atlanta Intl | 7/8998 | 8/14/17 | RNAV (GPS) Y RWY 28, Amdt 4.
12-Oct-17 | GA | Atlanta | Hartsfield-Jackson Atlanta Intl | 7/8999 | 8/14/17 | RNAV (GPS) Y RWY 26R, Amdt 4.
12-Oct-17 | NH | Manchester | Manchester | 7/9345 | 8/14/17 | ILS OR LOC RWY 35, ILS RWY 35 (SA CAT I), ILS RWY 35 (CAT II AND III), Amdt 2B.
12-Oct-17 | TX | Beaumont/Port Arthur | Jack Brooks Rgnl | 7/9374 | 8/10/17 | RNAV (GPS) RWY 12, Orig.
12-Oct-17 | TX | Corpus Christi | Corpus Christi Intl | 7/9447 | 8/14/17 | RNAV (GPS) Y RWY 36, Amdt 2A.
12-Oct-17 | TX | Lubbock | Lubbock Preston Smith Intl | 7/9472 | 8/10/17 | RNAV (GPS) RWY 26, Amdt 2B.
12-Oct-17 | OR | Madras | Madras Municipal | 7/9638 | 8/10/17 | RNAV (GPS) RWY 34, Orig-A.
12-Oct-17 | OR | Madras | Madras Municipal | 7/9640 | 8/10/17 | RNAV (GPS) RWY 16, Amdt 1A.
12-Oct-17 | GA | Atlanta | Hartsfield-Jackson Atlanta Intl | 7/9873 | 8/2/17 | RNAV (GPS) RWY 09L, Amdt 4A.

[FR Doc. 2017-19076 Filed 9-12-17; 8:45 am]

BILLING CODE 4910-13-P